ENVIRONMENTAL PROTECTION AGENCY

[EPA-HQ-OPP-2010-0194; FRL-8821-9]

Versar, Inc. and Syracuse Research Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Versar, Inc. and its subcontractor, Syracuse Research Corporation, in accordance with 40 CFR 2.307(h)(3) and 2.308(i)(2). Versar, Inc. and its subcontractor, Syracuse Research Corporation, have been awarded a contract to perform work for OPP, and access to this information will enable Versar, Inc. and its subcontractor, Syracuse Research Corporation, to fulfill the obligations of the contract.

DATES: Versar, Inc. and its subcontractor, Syracuse Research Corporation, will be given access to this information on or before May 3, 2010.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0194. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under Contract No. EP-W-10-004, Versar, Inc. and its subcontractor, Syracuse Research Corporation, will conduct a comprehensive examination of all product chemistry data submitted to the Health Effects Division of the Office of Pesticides Programs in support of registration. The data assessment report will include the review and discussion of each chemical’s identity, how it is manufactured, how it may be detected or measured, and a summary of data regarding its characteristic physical/chemical properties as specified by published guidelines.

The discussions mentioned in this unit are considered “Confidential Business Information.” Thus, the discussion of the specific procedures, equipment, and conditions required for the commercial manufacture of the pesticide chemical shall not be incorporated into the product chemistry portion of the Registration Eligibility Decision (RED) document; however, this information will be summarized in referenced memoranda, in appendices labeled “Confidential.” The data mentioned in this unit will be used to perform tasks 1-4 of the Performance Work Statement.

The OPP has determined that access by Versar, Inc. and its subcontractor, Syracuse Research Corporation, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Versar, Inc. and its subcontractor, Syracuse Research Corporation, prohibits use of the information for any purpose not specified in the contract; prohibits disclosure of the information to a third party without prior written approval from the Agency; and requires that each official and employee of the contractor sign an agreement to protect the information from unauthorized release and to handle it in accordance with the FIFRA Information Security Manual. In addition, Versar, Inc. and its subcontractor, Syracuse Research Corporation, are required to submit, for EPA approval, a security plan under which any CBI will be secured and protected against unauthorized release or compromise. No information will be provided to Versar, Inc. and its subcontractor, Syracuse Research Corporation, until the requirements in this document have been fully satisfied. Records of information provided to Versar, Inc. and its subcontractor, Syracuse Research Corporation, will be maintained by EPA’s Project Officers for this contract. All information supplied to Versar, Inc. and its subcontractor, Syracuse Research Corporation, by EPA for use in connection with this contract will be returned to EPA when Versar, Inc. and its subcontractor, Syracuse Research Corporation, have completed their work.

List of Subjects

Environmental protection, Business and industry, Government contracts, Government property, Security measures.

Dated: April 13, 2010.
Chandler Sirmon,
Acting Director, Office of Pesticide Programs.

[FR Doc. 2010-9340 Filed 4-27-10; 8:45 am]

BILLING CODE 6560-50-S